ENVIRONMENTAL PROTECTION AGENCY

FRL-7422-7]

Comprehensive Environmental Response, Compensation and Liability Act (CERCLA) or Superfund, Section 104(k)(6); Announcement of Proposal Deadlines for the Competition for the 2003 National Brownfields Job Training Grants

AGENCY: Environmental Protection Agency.

ACTION: Notice of the availability of Brownfields grant application guidelines and deadlines for submissions of proposals.

SUMMARY: The Environmental Protection Agency (EPA) will begin to accept proposals for the National Brownfields Job Training Grants on December 17, 2002. Proposals are due on January 24, 2003. This notice provides information on how to obtain the application guidelines.

Funding for the brownfields job training grants is authorized under section 104(k)(6) of the Comprehensive Environmental Response, Compensation, and Liability Act of 1980, as amended, (CERCLA), 42 U.S.C. 9604(k). These grants provide training to facilitate site assessment, remediation of brownfields sites, or site preparation. (See Catalogue of Federal Domestic Assistance Number: 66.811; a revised CFDA number entry has been submitted for approval). Eligibility for Brownfields job training grants is limited to “eligible entities” as defined in section 104(k)(1) of CERCLA and non profit organizations.

The National brownfields job training grants will be awarded on a competitive basis using a one step proposal selection process. EPA expects to make up 10 Brownfields job training grant awards in fiscal year 2003, contingent upon the availability of funds. The maximum funding level for each grant will be $ 200,000. Applicants are encouraged to contact and, if possible, meet with EPA Regional Brownfields Contacts.

DATES: This action is effective as of December 17, 2002. The application deadline for Proposals for the 2003 job training grants is January 24, 2003. All Proposals must be postmarked by USPS or delivered to U.S. EPA Headquarters no later than January 24, 2003, and a duplicate copy sent to the appropriate U.S. EPA Regional Office.

Obtaining Proposal Guidelines: The proposal guidelines are available via the Internet: http://www.epa.gov/brownfields/.

Copies of the Proposal Guidelines will also be mailed upon request. Requests should be made by calling the U.S. EPA Call Center at the following numbers:

Washington, DC Metro Area at 703-412-9810

Outside Washington, DC Metro at 1-800-424-9346

TDD for the Hearing Impaired at 1-800-553-7672

In order to ensure that the Guidelines are received in time to be used in the preparation of the proposal, applicants should request a copy as soon as possible and in any event no later than seven (7) working days before the proposal due date. Applicants who request copies after that date might not receive the proposal guidelines in time to prepare and submit a responsive proposal.

ADDRESSES: Mailing addresses for U.S. EPA Regional Offices and U.S. EPA Headquarters are provided in the Proposal Guidelines.

FOR FURTHER INFORMATION CONTACT: The U.S.EPA's Office of Solid Waste and Emergency Response, Office of Brownfields Cleanup and Redevelopment, (202) 566-2777.

SUPPLEMENTARY INFORMATION: On January 11, 2002, President George W. Bush signed into law the Small Business Liability Relief and Brownfields Revitalization Act. This act amended the Comprehensive Environmental Response, Compensation and Liability Act of 1980, as amended (CERCLA) to authorize federal financial assistance for brownfields revitalization, including grants for assessment, cleanup, and job training. Funding for the brownfields job training grants is authorized under section 104(k)(6) of CERCLA, 42 U.S.C. 9604(k)(6). Eligibility for Brownfields job training grants is limited to “eligible entities” as defined in section 104(k)(1) of CERCLA and non profit organizations.

Eligible governmental entities include a General Purpose Unit of Local Government; Land Clearance Authority or other quasi-governmental entity that operates under the supervision and control of, or as an agent of, a general purpose unit of local government; Governmental Entity Created by State Legislature; Regional council or group of general purpose units of local government; Redevelopment Agency that is chartered or otherwise sanctioned by a state; State; Indian Tribe other than in Alaska; and Alaska Native Regional Corporation, Alaska Native Village Corporation, and Metlakatla Indian Community. In addition, Intertribal Consortia, other than those composed of ineligible Alaskan tribes, are eligible to apply for the brownfields job training grants.

For the purposes of determining a nonprofit organization's eligibility for the brownfields job training grant program, EPA will use the definition of nonprofit organizations contained in section 4(6) of the Federal Financial Assistance Management Improvement Act of 1999, Public Law 106-107. The term “nonprofit organization” means any corporation, trust, association, cooperative, or other organization that is operated primarily for scientific, educational, service, charitable, or similar purpose in the public interest; is not organized primarily for profit; and uses net proceeds to maintain, improve, or expand the operation of the organization.

To ensure a fair selection process, evaluation panels consisting of EPA Regional and Headquarters staff and other federal agency representatives will assess how well the proposals meet the selection criteria outlined in the application booklet, Proposal Guidelines for Brownfields Job Training Grants (November 2002). Proposals will be evaluated and ranked by National Evaluation Panels. The evaluation panels will review the proposals carefully and assess each response based on how well it addresses the criteria, briefly outlined below. There are two different types of criteria—threshold criteria and ranking criteria. Applicants must meet the threshold criteria to be considered for an award of a grant. Responses to the evaluation criteria will be utilized to determine whether to make an award and the amount of funds to be awarded.

Job Training Grants

Threshold Criteria

A. Location of Project

B. Applicant Eligibility

C. Proof of Non-Duplication of effort

Ranking Criteria

A. Community Need (a maximum of 10 points may be received for this criterion)

B. Institutional Capacity (a maximum of 15 points may be received for this criterion)

C. Training Program Objectives and Plans (a maximum of 20 points may be received for this criterion)

D. Budget, Schedule and Leveraging (a maximum of 25 points may be received for this criterion)

E. Community Involvement and Partnerships (a maximum of 20 points may be received for this criterion)

F. Measures of Success (a maximum of 10 points may be received for this criterion)

Final selections will be made by EPA senior management after considering the ranking of Final Proposals by the National Evaluation Panels EPA decisions may take into account other statutory and policy considerations, such as urban and non-urban distribution and other geographic factors; compliance with the statutory petroleum funding allocation; designation as a Federal Empowerment Zone, Enterprise Community, or Renewal Community; population; and whether the applicant is a federally recognized Indian tribe. There is no guarantee of an award.

Dated: December 5, 2002.
Sven Kaiser,
Acting Director, Office of Brownfields Cleanup and Redevelopment, Office of Solid Waste and Emergency Response.

[FR Doc. 02-31677 Filed 12-16-02; 8:45 am]

BILLING CODE 6560-50-P